DEPARTMENT OF TRANSPORTATION

National Highway Traffic Safety Administration

[Docket No. NHTSA-2024-0049; Notice 1]

Michelin North America, Inc., Receipt of Petition for Decision of Inconsequential Noncompliance

AGENCY: National Highway Traffic Safety Administration (NHTSA), Department of Transportation (DOT).

ACTION: Receipt of petition.

SUMMARY: Michelin North America, Inc. (MNA) has determined that certain Michelin TEX T195/65R22 T-type spare tires do not fully comply with Federal Motor Vehicle Safety Standard (FMVSS) No. 109, New Pneumatic Tires for Vehicles Manufactured from 1949 To 1975, Bias Ply Tires, and T-Type Spare Tires. MNA filed a noncompliance report dated May 1, 2024, and subsequently petitioned NHTSA (the “Agency”) on May 29, 2024, for a decision that the subject noncompliance is inconsequential as it relates to motor vehicle safety. This document announces receipt of MNA's petition.

DATES: Send comments on or before January 13, 2025.

ADDRESSES: Interested persons are invited to submit written data, views, and arguments on this petition. Comments must refer to the docket and notice number cited in the title of this notice and may be submitted by any of the following methods:

• Mail: Send comments by mail addressed to the U.S. Department of Transportation, Docket Operations, M-30, West Building Ground Floor, Room W12-140, 1200 New Jersey Avenue SE, Washington, DC 20590.

• Hand Delivery: Deliver comments by hand to the U.S. Department of Transportation, Docket Operations, M-30, West Building Ground Floor, Room W12-140, 1200 New Jersey Avenue SE, Washington, DC 20590. The Docket Section is open on weekdays from 10 a.m. to 5 p.m. except for Federal Holidays.

• Electronically: Submit comments electronically by logging onto the Federal Docket Management System (FDMS) website at https://www.regulations.gov/. Follow the online instructions for submitting comments.

• Comments may also be faxed to (202) 493-2251.

Comments must be written in the English language, and be no greater than 15 pages in length, although there is no limit to the length of necessary attachments to the comments. If comments are submitted in hard copy form, please ensure that two copies are provided. If you wish to receive confirmation that comments you have submitted by mail were received, please enclose a stamped, self-addressed postcard with the comments. Note that all comments received will be posted without change to https://www.regulations.gov, including any personal information provided.

All comments and supporting materials received before the close of business on the closing date indicated above will be filed in the docket and will be considered. All comments and supporting materials received after the closing date will also be filed and will be considered to the fullest extent possible.

When the petition is granted or denied, notice of the decision will also be published in the Federal Register pursuant to the authority indicated at the end of this notice.

All comments, background documentation, and supporting materials submitted to the docket may be viewed by anyone at the address and times given above. The documents may also be viewed on the internet at https://www.regulations.gov by following the online instructions for accessing the dockets. The docket ID number for this petition is shown in the heading of this notice.

DOT's complete Privacy Act Statement is available for review in a Federal Register notice published on April 11, 2000 (65 FR 19477-78).

FOR FURTHER INFORMATION CONTACT: Jayton Lindley, General Engineer, NHTSA, Office of Vehicle Safety Compliance, (325) 655-0547.

SUPPLEMENTARY INFORMATION:

I. Overview: MNA determined that certain Michelin Tex T195/65R22 do not fully comply with paragraph S4.3(b) of FMVSS No. 109, New Pneumatic Tires for Vehicles Manufactured from 1949 To 1975, Bias Ply Tires, and T-Type Spare Tires (49 CFR 571.109).

MNA filed a noncompliance report dated May 1, 2024, pursuant to 49 CFR part 573, Defect and Noncompliance Responsibility and Reports. MNA petitioned NHTSA on May 29, 2024, for an exemption from the notification and remedy requirements of 49 U.S.C. Chapter 301 on the basis that this noncompliance is inconsequential as it relates to motor vehicle safety, pursuant to 49 U.S.C. 30118(d) and 30120(h) and 49 CFR part 556, Exemption for Inconsequential Defect or Noncompliance.

This notice of receipt of MNA's petition is published under 49 U.S.C. 30118 and 30120 and does not represent any agency decision or another exercise of judgment concerning the merits of the petition.

II. Tires Involved: Approximately 532 Michelin TEX T195/65R22 T-type spare tires, manufactured between September 26, 2023, and March 6, 2024, were reported by the manufacturer.

III. Rule Requirements: Paragraph S4.3(b) of FMVSS No. 109 includes the requirements relevant to this petition. This requirement specifies, among other things, that each tire must have the maximum permission inflation pressure permanently molded onto or into both tire sidewalls. In addition, for T-type spare tires with a maximum inflation pressure of 420 kPa, an additional marking that states “Inflate to 420 kPa (60 psi)” is required on both sidewalls in a prominent location with a large font size. In total, the subject tires are required to have the maximum inflation pressure marked in 4 different locations.

IV. Noncompliance: MNA explains that the subject tires incorrectly state the maximum permissible inflation pressure in one location on each sidewall and, therefore, do not comply with paragraph S4.3(b) of FMVSS No. 109. Specifically, the tire markings show an incorrect pressure of 350 kPa (51 psi), instead of the correct 420 kPa (60 psi) in one location of the two required locations on each sidewall.

V. Summary of MNA's Petition: The following views and arguments presented in this section, “V. Summary of MNA's Petition,” are the views and arguments provided by MNA. They have not been evaluated by the Agency and do not reflect the views of the Agency. MNA describes the subject noncompliance and contends that the noncompliance is inconsequential as it relates to motor vehicle safety.

MNA explains that the noncompliance was discovered when Indian authorities detected a marking error during a certification inspection and alerted Michelin Europe. European Original Equipment Quality then notified North American Original Equipment Quality that some Range Rovers equipped with the affected spare tires may have been shipped to the US. An investigation was initiated to determine if the affected product had entered the US market. MNA blocked 506 affected tires at the Nyiregyhaza, Hungary manufacturing facility and confirmed that 532 tires were sold into the US market as OEM spares. Upon detecting the subject noncompliance, MNA reports that production of the affected tires was suspended within 24 hours and molds with corrected markings were put into production on March 25, 2024.

MNA explains that the incorrect maximum permissible inflation pressure marking is inconsistent with the correct sidewall marking: “Inflate to 420 kPa (60 psi)” required by paragraph S4.3.5 of FMVSS No. 109, which is present and correctly marked in two locations on the tire. MNA states that although the subject tires were marked with two different inflation pressures, testing confirmed that they fully comply with all applicable FMVSS tire safety performance standards, including endurance, high speed performance, bead unseating, and tire strength. FMVSS No. 109 performance testing was conducted and confirmed that the subject tires passed under the specified conditions for the maximum permissible inflation pressures of 350 kPa and 420 kPa.

MNA believes that several factors improve the likelihood of the subject tires being used at the correct inflation pressure. First, tires are inflated to the correct pressure at the wheel mounting facility, eliminating the need for dealers to determine which pressure to follow. Additionally, when end users perform the recommended monthly pressure check, the most prominent spare tire sidewall marking required by paragraph S4.5 of FMVSS No. 109, specifies 420 kPa for the spare tire. Furthermore, the placard on the vehicle specifies 420 kPa. Given that the subject spare tire has been confirmed to be safe at both inflation pressures, it remains safe even if the customer adjusts the pressure to the lower value stated on the tire.

MNA concludes by stating its belief that the subject noncompliance is inconsequential as it relates to motor vehicle safety and its petition to be exempted from providing notification of the noncompliance, as required by 49 U.S.C. 30118, and a remedy for the noncompliance, as required by 49 U.S.C. 30120, should be granted. NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, any decision on this petition only applies to the subject tires that MNA no longer controlled at the time it determined that the noncompliance existed. However, any decision on this petition does not relieve tire distributors and dealers of the prohibitions on the sale, offer for sale, or introduction or delivery for introduction into interstate commerce of the noncompliant tires under their control after MNA notified them that the subject noncompliance existed.

(Authority: 49 U.S.C. 30118, 30120: delegations of authority at 49 CFR 1.95 and 501.8)

Otto G. Matheke III,
Director, Office of Vehicle Safety Compliance.

[FR Doc. 2024-29417 Filed 12-12-24; 8:45 am]

BILLING CODE 4910-59-P